DEPARTMENT OF DEFENSE

Department of the Navy

Notice of Intent to Grant Exclusive Patent License; Vytral Systems Co. Ltd, LLC

AGENCY: Department of the Navy, DoD.

ACTION: Notice.

SUMMARY: The Department of the Navy hereby gives notice of its intent to grant to Vytral Systems Co. Ltd, LLC a revocable, nonassignable, partially exclusive license to practice throughout the United States the Government-owned inventions described in U.S. Patent No. 7,281,482: SIDE THRUSTER PERFORMANCE IMPROVEMENT WITH POWER OPTIMIZATION CONTROLLER; U.S. Patent No. 7,277,573: ENHANCED RANDOMNESS ASSESSMENT METHOD FOR THREE-DIMENSIONS; U.S. Patent No. 7,272,072: METHOD OF CONVERTING RECEIVED DATA TO A TWO-DIMENSIONAL COLOR MAP; U.S. Patent No. 7,269,538: METHOD FOR SPARSE DATA TWO-STAGE STOCHASTIC MENSURATION; U.S. Patent No. 7,259,637: DELAY LOOP CORRECTION FOR A PROCESSOR; U.S. Patent No. 7,251,605: SPEECH TO TOUCH TRANSLATOR ASSEMBLY AND METHOD; U.S. Patent No. 7,236,252: SYSTEM AND APPARATUS FOR MEASURING DISPLACEMENTS IN ELECTRO-ACTIVE MATERIALS; U.S. Patent No. 7,212,652: METHOD FOR TRACKING TARGETS WITH HYPER-SPECTRAL DATA; U.S. Patent No. 7,209,240: SYSTEM AND APPARATUS FOR MEASURING DISPLACEMENTS IN ELECTRO-ACTIVE MATERIALS; U.S. Patent No. 7,180,416: TIME KEYED INFORMATION TRANSMISSION; U.S. Patent No. 7,177,232: WIRELESS RADIO FREQUENCY HYDROPHONE SYSTEM; U.S. Patent No. 7,155,389: DISCRIMINATING SPEECH TO TOUCH TRANSLATOR ASSEMBLY AND METHOD; U.S. Patent No. 7,143,033: AUTOMATIC MULTI-LANGUAGE PHONETIC TRANSCRIBING SYSTEM; U.S. Patent No. 7,120,089: SELF-CONTAINED AMBIENT NOISE RECORDER; U.S. Patent No. 7,111,577: ELECTROMAGNETIC WAVE PROPAGATION SCHEME; U.S. Patent No. 7,110,946: SPEECH TO VISUAL AID TRANSLATOR ASSEMBLY AND METHOD; U.S. Patent No. 7,106,658: NAVIGATION SYSTEM AND METHOD USING DIRECTIONAL SENSOR; U.S. Patent No. 7,106,269: OMNI-AZIMUTHAL PATTERN GENERATOR FOR VLF AND LF COMMUNICATION; U.S. Patent No. 7,103,502: ENHANCED SYSTEM FOR DETECTION OF RANDOMNESS IN SPARSE TIME SERIES DISTRIBUTIONS; U.S. Patent No. 7,062,386: METHOD TO ESTIMATE THE MECHANICAL PROPERTIES OF A SOLID MATERIAL SUBJECTED TO INSONIFICATION; U.S. Patent No. 7,061,431: SEGMENTED MICROSTRIP PATCH ANTENNA WITH EXPONENTIAL CAPACITIVE LOADING; U.S. patent No. 7,032,456: ISOSTATIC PIEZORESISTIVE PRESSURE TRANSDUCER WITH TEMPERATURE OUTPUT; U.S. Patent No. 7,027,211: FIBER OPTIC SWITCH EMPLOYING OPTICAL AMPLIFIERS; U.S Patent No. 7,020,046: SYSTEM AND METHOD FOR TARGET MOTION ANALYSIS WITH INTELLIGENT PARAMETER EVALUATION PLOT; U.S. Patent No. 7,016,563: FIBER OPTIC SWITCH; U. S. Patent No. 7,013,808: METHOD AND SYSTEM FOR DETERMINING A BOUNDING REGION; U.S. Patent No. 7,010,981: INVERSE METHOD FOR ESTIMATING THE WAVE PROPAGATION PARAMETERS OF TWO DISSIMILAR WAVE TYPES; U.S Patent No. 6,984,899: WIND DAM ELECTRIC GENERATOR & METHOD; U.S. Patent No. 6,983,222: MULTI-STAGE PLANAR STOCHASTIC MENSURATION; U.S. Patent No. 6,980,926: DETECTION OF RANDOMNESS IN SPARSE DATA SET OF THREE DIMENSIONAL TIME SERIES DISTRIBUTIONS; U.S Patent No. 6,967,899: METHOD FOR CLASSIFYING A RANDOM PROCESS FOR DATA SETS IN ARBITRARY DIMENSIONS; U.S. Patent No. 6,963,690: TERMINATION CLAMP ASSEMBLY FOR A HYBRID ELECTRICAL/FIBER OPTIC CABLE; U.S. Patent No. 6,940,986: APPARATUS AND METHOD FOR REMOTELY AND AUTOMATICALLY CONTROLLING THE VOLUME OF AUDIO SIGNALS PRODUCED BY A REMOTELY CONTROLLED AUDIO DEVICE; U.S. Patent No. 6,921,990: ELECTRONIC STATUS MONITORING SYSTEM FOR SECURITY CONTAINERS; U.S. Patent No. 6,674,406: MICROSTRIP PATCH ANTENNA WITH PROGRESSIVE SLOT LOADING; U.S. Patent No. 6,611,824: SYSTEM FOR BEARING-ONLY CONTACT STATE ESTIMATION USING RECURRENT NEURAL NETWORKS; U.S. Patent No. 6,564,169: METHOD FOR WIRE GUIDANCE TONE CERTIFICATION; U.S. Patent No. 6,469,666: DIGITAL ANTENNA GONIOMETER AND METHOD; U.S. Patent No. 6,385,130: DUAL CHANNEL SWITCH WITH FREQUENCY BAND LIMITING; U.S. Patent No. 6,374,197: FUZZY LOGIC BASED MODEL ASSESSMENT SYSTEM AND METHOD FOR CONTACT TRACKING; U.S. Patent No. 6,356,600: NON-PARAMETRIC ADAPTIVE POWER LAW DETECTOR; U.S. Patent No. 6,137,909: SYSTEM AND METHOD FOR FEATURE SET REDUCTION; U.S. Patent No. 5,787,408: SYSTEM AND METHOD FOR DETERMINING NODE FUNCTIONALITY IN ARTIFICIAL NEURAL NETWORKS; U.S Patent No. 5,751,260: SENSORY INTEGRATED DATA INTERFACE; U.S. Patent No. 5,727,561: METHOD AND APPARATUS FOR NON-INVASIVE DETECTION AND ANALYSIS OF TURBULENT FLOW IN A PATIENT'S BLOOD VESSELS; and, U.S. Patent No. 5,617,869: DEVICE AND METHOD FOR LOCATING FLOW BLOCKAGE IN A THREE-DIMENSIONAL OBJECT and all patents or patent applications: (i) To which any of the above mentioned patents directly claims priority, (ii) for which any of the above mentioned patents directly forms a basis for priority, (iii) that were co-owned applications that directly incorporate by reference, or are incorporated by reference into, any of the above mentioned patents; (iv) reissues, reexaminations, extensions, continuations, continuing prosecution applications, requests for continuing examinations, divisions, and registrations of any of the above mentioned patents; and (v) foreign patents, patent applications and counterparts relating to any of the above mentioned Patents, including, without limitation, certificates of invention, utility models, industrial design protection, design patent protection, and other governmental grants or issuances.

DATES: Anyone wishing to object to the grant of this license has fifteen (15) days from the date of this notice to file written objections along with supporting evidence, if any.

ADDRESSES: Written objections are to be filed with the Naval Undersea Warfare Center Division, Newport, 1176 Howell St., Bldg 990, Code 07TP, Newport, RI 02841.

FOR FURTHER INFORMATION CONTACT: Dr. Theresa A. Baus, Head, Technology Partnership Enterprise Office, Naval Undersea Warfare Center Division, Newport, 1176 Howell St., Bldg 990, Code 07TP, Newport, RI 02841, telephone: 401-832-8728, or e-mail: bausta@npt.nuwc.navy.mil.

Authority: 35 U.S.C. 207, 37 CFR part 404.

Dated: May 14, 2008.
T.M. Cruz,
Lieutenant, Judge Advocate General's Corps, U.S. Navy, Federal Register Liaison Officer.

[FR Doc. E8-11241 Filed 5-19-08; 8:45 am]

BILLING CODE 3810-FF-P